DEPARTMENT OF HEALTH AND HUMAN SERVICES

Substance Abuse and Mental Health Services Administration

Joint Meeting of the National Advisory Councils

AGENCY: Substance Abuse and Mental Health Services Administration, HHS.

ACTION: Notice.

Notice is hereby given of the combined (joint) meeting on February 28, 2024, of the Substance Abuse and Mental Health Services Administration's (SAMHSA) national advisory councils: the SAMHSA National Advisory Council (NAC), the Center for Mental Health Services NAC, the Center for Substance Abuse Prevention NAC, the Center for Substance Abuse Treatment NAC; and the two SAMHSA advisory committees: Advisory Committee for Women's Services (ACWS) and the Tribal Technical Advisory Committee (TTAC).

The meeting will include remarks from the Assistant Secretary for Mental Health and Substance Use; follow up from the JNAC meeting of August 30, 2023; updates from the individual council meetings of February 27, 2024; a presentation and discussion on the Tribal Behavioral Health Agenda process and updates; a presentation and discussion on Prevention (Naloxone); a presentation and discussion on Government Performance and Results Act (GPRA); general Council discussion and Public Comments.

The meeting is open to the public and will be held at the North Bethesda Marriott Hotel and Conference Center, 5701 Marinelli Rd., Rockville, MD 20852. Attendance by the public will be limited to space available. Interested persons may present data, information, or views orally or in writing, on issues pending before the Council. Written submissions should be forwarded to the contact person by February 21, 2024. Oral presentations from the public will be scheduled at the conclusion of the meeting. Individuals interested in making oral presentations must notify the contact by February 21, 2024. Up to three minutes will be allotted for each presentation, as time permits.

The meeting may be accessed via telephone and remotely via Zoom platform and callers must register. To attend on site, obtain the call-in number, access code, and/or web access link; submit written or brief oral comments; or request special accommodations for persons with disabilities, please register on-line at: https://snacregister.samhsa.gov, or communicate with SAMHSA's Committee Management Officer, Carlos Castillo (see contact information below).

Meeting information and a roster of Council members may be obtained either by accessing the SAMHSA Council's website at: https://www.samhsa.gov/about-us/advisory-councils, or by contacting Carlos Castillo. Substantive program information may be obtained after the meeting by accessing the SAMHSA Council's website at: https://www.samhsa.gov/about-us/advisory-councils.

Council Names:

Substance Abuse and Mental Health Services Administration National Advisory Council

Center for Mental Health Services National Advisory Council

Center for Substance Abuse Prevention National Advisory Council

Center for Substance Abuse Treatment National Advisory Council

Advisory Committee for Women's Services

Tribal Technical Advisory Committee

Date/Time/Type: February 28, 2024, 9 a.m. to 4:30 p.m. EST, Open.

Place: North Bethesda Marriott Hotel and Conference Center, 5701 Marinelli Rd., Rockville, MD 20852.

Contact: Carlos Castillo, Committee Management Officer, 5600 Fishers Lane, Rockville, Maryland 20857 (mail), Telephone: (240) 276-2787, Email: carlos.castillo@samhsa.hhs.gov.

SAMHSA's National Advisory Councils were established to advise the Secretary, Department of Health and Human Services (HHS); the Assistant Secretary for Mental Health and Substance Use, SAMHSA; and SAMHSA's Center Directors concerning matters relating to the activities carried out by and through the Centers and the policies respecting such activities.

Under Section 501 of the Public Health Service Act, the ACWS is statutorily mandated to advise the SAMHSA Assistant Secretary for Mental Health and Substance Use and the Associate Administrator for Women's Services on appropriate activities to be undertaken by SAMHSA and its Centers with respect to women's substance abuse and mental health services.

Pursuant to Presidential Executive Order No. 13175, November 6, 2000, and the Presidential Memorandum of September 23, 2004, SAMHSA established the TTAC for working with Federally recognized Tribes to enhance the government-to-government relationship, and honor Federal trust responsibilities and obligations to Tribes and American Indian and Alaska Natives. The SAMHSA TTAC serves as an advisory body to SAMHSA.

Dated: January 24, 2024.
Carlos Castillo,
Committee Management Officer, SAMHSA.

[FR Doc. 2024-02073 Filed 2-1-24; 8:45 am]

BILLING CODE 4162-20-P